DEPARTMENT OF VETERANS AFFAIRS

Disposition of Enhanced-Use Leased Property at the U.S. Department of Veterans Affairs (VA)—Brecksville, Ohio, Campus Known as 10000 Brecksville Road, Brecksville, OH 44141

AGENCY: U.S. Department of Veterans Affairs.

ACTION: Notice of intent to dispose of real property during the term of an Enhanced-Use Lease (EUL).

SUMMARY: The Secretary of Veterans Affairs intends to dispose of approximately 102 acres of property at the VA Medical Center in Brecksville, Ohio, which is currently being leased by the City of Brecksville. The Secretary has determined that VA no longer needs such property, and that a transfer to the City of Brecksville of all right, title, and interest of the United States in the property would be in the best interest of VA.

FOR FURTHER INFORMATION CONTACT: Edward L. Bradley III, Office of Asset Enterprise Management (044), Department of Veterans Affairs, 810 Vermont Avenue NW., Washington, DC 20420, (202) 461-7778 (this is not a toll-free number).

SUPPLEMENTARY INFORMATION: The subject property consists of approximately 102 acres of land and improvements leased under a 75-year enhanced-use lease executed on Oct. 1, 2009, which is currently leased to the City of Brecksville. Section 8164 of title 38, U.S.C., authorizes the Secretary, either during or within 30 days after the end of the lease term, to dispose of enhanced-use leased property to the lessee, if the Secretary determines that the leased property is no longer needed by the Department, and that the disposal under that section, rather than via section 8118 or 8122 of such title, is in the best interests of the Department. The Secretary has made those determinations, and is providing this notice of intent to dispose of the subject leased property as required by section 8164 of title 38, U.S.C.

Signing Authority

The Secretary of Veterans Affairs, or designee, approved this document and authorized the undersigned to sign and submit the document to the Office of the Federal Register for publication electronically as an official document of the Department of Veterans Affairs. Gina S. Farrisee, Deputy Chief of Staff, Department of Veterans Affairs, approved this document on August 24, 2017, for publication.

Dated: August 24, 2017.
Jeffrey Martin,
Office Program Manager, Office of Regulation Policy & Management, Office of the Secretary, Department of Veterans Affairs.

[FR Doc. 2017-18519 Filed 8-31-17; 8:45 am]

BILLING CODE 8320-01-P